DEPARTMENT OF TRANSPORTATION

Federal Highway Administration

Notice of Final Federal Agency Actions on State Loop 375 From Interstate Highway 10 to the Franklin Mountains State Park in Texas

AGENCY: Federal Highway Administration (FHWA), DOT.

ACTION: Notice of limitation on claims for judicial review of actions by FHWA and other Federal Agencies.

SUMMARY: This notice announces actions taken by the FHWA and other Federal agencies that are final within the meaning of 23 U.S.C. 139(l)(1). The actions relate to a proposed highway project, upgrades to Texas State Loop 375 from Interstate Highway 10 to 0.479 Mile East of the Tom Mays Unit of the Franklin Mountains State Park Entrance (Loop 375 Transmountain West Project), in El Paso County in the State of Texas. Those actions grant licenses, permits, and approvals for the project.

DATES: By this notice, the FHWA is advising the public of final agency actions subject to 23 U.S.C. 139(l)(1). A claim seeking judicial review of the Federal agency actions on the highway project will be barred unless the claim is filed on or before March 12, 2012. If the Federal law that authorizes judicial review of a claim provides a time period of less than 180 days for filing such claim, then that shorter time period still applies.

FOR FURTHER INFORMATION CONTACT: Mr. Gregory Punske, District Engineer, Federal Highway Administration, 300 East 8th Street, Rm. 826, Austin, Texas 78701; telephone: 512-536-5960, fax: 512-536-5990 e-mail: gregory.punske@dot.gov. The FHWA Texas Division Office's normal business hours are 8 a.m. to 5 p.m. (central time). You may also contact Ms. Julia M. Brown, P.E., Interim District Engineer, Texas Department of Transportation, El Paso District, 13301 Gateway Blvd. West, El Paso, Texas, 79928-5410; telephone: (915) 790-4203.

SUPPLEMENTARY INFORMATION: Notice is hereby given that the FHWA and other Federal agencies have taken final agency actions by issuing licenses, permits, and approvals for the following highway project in the State of Texas: Upgrades to Texas State Loop 375 from Interstate Highway 10 (IH-10) to 0.479 Mile East of the Tom Mays Unit of the Franklin Mountains State Park Entrance (Loop 375 Transmountain West Project) in El Paso County. The proposed improvements include widening the roadway to a four-lane divided freeway with two-lane frontage roads in each direction, grade-separated intersections at Northwestern Drive, Resler Drive, future Plexxar Road, and future Paseo Del Norte Road, and two direct connector ramps from Texas State Loop 375 westbound to IH-10 eastbound and from IH-10 westbound to Texas State Loop 375 eastbound. At approximately 0.5 mile east of the future Paseo del Norte Road, the roadway would transition to a four-lane divided section that matches the existing configuration of Loop 375 just east of the entrance to the Tom Mays Unit of the Franklin Mountains State Park. The project will require approximately 41.2 acres of additional right of way and would not result in residential or commercial displacements, with the exception of the relocation of two business signs.

The actions by the Federal agencies, and the laws under which such actions were taken, are described in the Final Environmental Assessment (Final EA) for the project, approved on February 11, 2011, in the FHWA Finding of No Significant Impact (FONSI) issued on August 17, 2011, and in other documents in the FHWA administrative record. The Final EA, FONSI, and other documents in the FHWA administrative record file are available by contacting the FHWA or the Texas Department of Transportation at the addresses provided above. The Final EA, EA Errata, FONSI and Public Hearing Summary are available online at http://www.txdot.gov/project_information/projects/el_paso/loop_375_west.htm.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 USC 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: September 6, 2011.
Janice W. Brown,
Division Administrator, Austin, Texas.

[FR Doc. 2011-23223 Filed 9-12-11; 8:45 am]

BILLING CODE 4910-RY-P